DEPARTMENT OF AGRICULTURE

Forest Service

Grays Harbor Resource Advisory Committee

AGENCY: Forest Service, USDA.

ACTION: Notice of meeting.

SUMMARY: The Grays Harbor Resource Advisory Committee (RAC) will hold its next meeting on July 22, 2002. The meeting will be held at the Pacific Ranger District's Quinault Office, Quinault, Washington. The meeting will begin at 7 p.m. and end at approximately 9 p.m. Agenda topics are: Approval of minutes of previous meeting; Presentation of FY 2003 Title II project proposals; Selection of recommended projects and priorities; Public comments; and Identify next meeting date and location.

All Grays Harbor Resource Advisory Committee Meetings are open to the public. Interested citizens are encourage to attend.

FOR FURTHER INFORMATION CONTACT: Direct questions regarding this meeting to Ken Eldredge, RAC Liaison, USDA, Olympic National Forest Headquarters, 1835 Black Lake Blvd., Olympia, WA 98512-5623, (306) 956-2323 or Dale Hom, Forest Supervisory and Designated Federal Official, at (360) 965-2301.

Dated: June 21, 2002.
Dale Hom,
Forest Supervisor, Olympic National Forest.

[FR Doc. 02-16299 Filed 6-27-02; 8:45 am]

BILLING CODE 3410-11-M